DEPARTMENT OF AGRICULTURE

Forest Service

Withdrawal of Notice of Intent To Prepare an Environmental Impact Statement for the Helena National Forest, Broadwater, Lewis & Clark, Meagher, and Powell Counties, MT; Travel Management Plan for the South Belts, Divide, and Blackfoot Project Areas

AGENCY: Forest Service, USDA.

ACTION: Cancellation notice.

SUMMARY: On April 18, 2003, a Notice of Intent (NOI) to prepare an environmental impact statement called the Helena National Forest, Montana; Travel Management Plan for the South Belts, Divide, and Blackfoot Project Areas was published in the 68 FR 19185. This NOI is hereby rescinded due to elapsed time since the appearance of the NOI in the Federal Register and changed scope of the proposal as directed by 36 CFR Parts 212, 251, 261, and 295 Travel Management; Designated Routes and Areas for Motor Vehicle Use; Final Rule; November 9, 2005.

Dated: June 5, 2007.
Kevin T. Riordan,
Forest Supervisor.

[FR Doc. E7-12000 Filed 6-20-07; 8:45 am]

BILLING CODE 3410-11-P